DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Bureau of Economic Analysis.

Title: Survey of Ocean Freight Revenues and Foreign Expenses of United States Carriers (BE-30) and Survey of U.S. Airline Operators' Foreign Revenues and Expenses (BE-37).

Form Number(s): BE-30/BE-37.

Agency Approval Number: 0608-0011.

Type of Request: Extension of a currently approved collection.

Burden: 780 hours (BE-30); 304 hours (BE-37).

Number of Respondents: 39 per quarter; 156 annually (BE-30); 19 per quarter; 76 annually (BE-37).

Average Hours Per Response: 5 hours (BE-30); 4 hours (BE-37).

Needs and Uses: The Bureau of Economic Analysis (BEA) is responsible for the compilation of the U.S. international transactions accounts (ITA), which it publishes quarterly in news releases, on its web site, and in its monthly journal, the Survey of Current Business. These accounts provide a statistical summary of all U.S. international transactions and, as such, are one of the major statistical products of BEA. They are used extensively by both government and private organizations for national and international economic policy formulation and for analytical purposes. The information collected in these surveys is used to develop the “transportation” portion of the ITA. Without this information, an integral component of the ITA would be omitted. No other Government agency collects comprehensive quarterly data on U.S. ocean carriers' freight revenues and foreign expenses or U.S. airline operators' foreign revenues and expenses.

These surveys request information from U.S. ocean and air carriers engaged in international transportation of goods and/or passengers. The information is collected on a quarterly basis from U.S. ocean and air carriers whose total annual covered revenues or total annual covered expenses are, or are expected to be, $500,000 or more. U.S. ocean and air carriers whose total annual covered revenues and total annual covered expenses are, or are expected to be, each below $500,000 are exempt from reporting.

Affected Public: U.S. ocean and air carriers.

Frequency: Quarterly.

Respondent's Obligation: Mandatory.

Legal Authority: The International Investment and Trade in Services Survey Act, 22 U.S.C. 3101-3108, as amended.

OMB Desk Officer: Paul Bugg, (202) 395-3093.

You may obtain copies of the above information collection proposal by writing Diane Hynek, Departmental Paperwork Clearance Officer, Officer of the Chief Information Officer, Department of Commerce, Room 6625, 14th and Constitution Avenue, NW., Washington, DC 20230, or via email at dhynek@doc.gov.

Send written comments on the proposed information collection within 30 days of publication of this notice to the Office of Management and Budget, O.I.R.A., Attention PRA Desk Officer for BEA, via email at pbugg@omb.eop.gov, or by fax at 202-395-7245.

Dated: July 20, 2006.
Madeleine Clayton,
Management Analyst, Office of Chief Information Officer.

[FR Doc. E6-11810 Filed 7-24-06; 8:45 am]

BILLING CODE 3510-06-P `q1